NATIONAL FOUNDATION ON THE ARTS AND THE HUMANITIES

National Endowment for the Arts

30-Day Notice for the “Evaluation of the Poetry Out Loud Program” Proposed Collection; Comment Request

AGENCY: National Endowment for the Arts, National Foundation of the Arts and the Humanities.

ACTION: Notice.

SUMMARY: The National Endowment for the Arts (NEA), as part of its continuing effort to reduce paperwork and respondent burden, conducts a preclearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. Currently, the NEA is soliciting comments concerning the proposed information collection for the Evaluation of the Poetry Out Loud Program (POL). Copies of this ICR, with applicable supporting documentation, may be obtained by visiting www.Reginfo.gov.

DATES: Comments should be sent to the Office of Information and Regulatory Affairs, Attn: OMB Desk Officer for the National Endowment for the Arts, Office of Management and Budget, Room 10235, Washington, DC 20503 202/395-7316, within 30 days from the date of this publication in the Federal Register.

SUPPLEMENTARY INFORMATION: The Office of Management and Budget (OMB) is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: National Endowment for the Arts.

Title: Evaluation of the Poetry Out Loud Program.

OMB Number: New.

Frequency: One Time.

Affected Public: Individuals.

Estimated Number of Respondents: 32,690.

Total burden hours: 8,627 hours.

Total annualized capital/startup costs: 0.

Total annual costs (operating/maintaining systems or purchasing services): $180,000.

Description: This study is a new data collection request, and the data to be collected are not available elsewhere unless collected through this information collection. The data collection activities are planned for July 2018 through June 2019. The study will provide the National Endowment for the Arts (NEA) a better understanding of student-level outcomes associated with the Poetry Out Loud program. Poetry Out Loud is a national arts education program supported by the NEA, the Poetry Foundation, and state and jurisdictional arts agencies, which encourages high school students to learn about poetry through memorization and recitation, helping students master public speaking skills, build self-confidence, and learn about literary history. Now in its twelfth year, POL serves more than 3 million students and 50,000 teachers from 10,000 schools in every state plus Washington, DC, the U.S. Virgin Islands, and Puerto Rico. The current evaluation study will be the first since 2008. The study supports the Agency's FY 2018-2022 Strategic Plan, which seeks in part to “expand and promote evidence of the value and impact of the arts for the benefit of the American people” (Strategic Objective 3.2).

Dated: March 16, 2018.
Jillian Miller,
Director, Office of Guidelines and Panel Operations, Administrative Services, National Endowment for the Arts.

[FR Doc. 2018-05779 Filed 3-21-18; 8:45 am]

BILLING CODE 7537-01-P